DEPARTMENT OF THE INTERIOR

Geological Survey

[GX14EF00CNTRC00]

Agency Information Collection Activities: Request for Comments

AGENCY: U.S. Geological Survey (USGS), Interior.

ACTION: Notice of a new information collection, Assessment of the Business Requirements and Benefits of Enhanced Geospatial Water Data.

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC.

DATES: To ensure that your comments are considered, we must receive them on or before May 27, 2014.

ADDRESSES: You may submit comments on this information collection to the Information Collection Clearance Officer, U.S. Geological Survey, 12201 Sunrise Valley Drive MS 807, Reston, VA 20192 (mail); (703) 648-7197 (fax); or dgovoni@usgs.gov (email). Please reference `Information Collection 1028-NEW, Assessment of the Business Requirements and Benefits of Enhanced Geospatial Water Data' in all correspondence.

FOR FURTHER INFORMATION CONTACT: Steve Aichele, Geographer, at (517) 887-8918 or saichele@usgs.gov.

SUPPLEMENTARY INFORMATION:

I. Abstract

The U.S. Geological Survey National Geospatial Program (NGP) is the Federal agency tasked by the Office of Management and Budget Circular A-16 with coordination of the hydrography (surface-water features) geospatial data theme. The purpose of this study is to ensure that the NGP's management of hydrography data theme is optimized to fully support the potential of geospatial data and information use in water science and mapping.

This one-time, voluntary information collection will engage professional users of hydrography information, including scientists, planners, and managers from Federal, state, and local government as well as academia and the private sector. The process will be guided by an interagency management team led by USGS with support from a professional services contractor. The information collection will include an online survey as well as interviews and focus group using a standardized template. The information collection will focus on (1) respondent's current use of hydrography data, (2) desired improvements to hydrography data, and (3) benefits accrued to the respondent's mission if enhanced hydrography data were available. Personally Identifiable Information (PII) will not be sought. The results of the information collection will be used to evaluate potential future program changes for USGS hydrography data. A summary of the results will be published in a USGS publication.

We will protect information from respondents considered proprietary under the Freedom of Information Act (5 U.S.C. 552) and its implementing regulations (43 CFR part 2), and under regulations at 30 CFR 250.197, “Data and information to be made available to the public or for limited inspection”. All information will be stored according to established USGS security and information access protocols.

II. Data

OMB Control Number: 1028-NEW.

Title: Assessment of the Business Requirements and Benefits of Enhanced Geospatial Water Data.

Type of Request: New information collection.

Affected Public: States, U.S. Territories, Tribes, and selected private natural resource development companies.

Respondent's Obligation: None. Participation is voluntary.

Frequency of Collection: One time.

Estimated Annual Number of Respondents: 300.

Estimated Total Number of Annual Responses: 300.

Estimated Time per Response: 4 hours.

Estimated Annual Burden Hours: 1200.

Estimated Reporting and Recordkeeping “Non-Hour Cost” Burden: There are no “non-hour cost” burdens associated with this IC.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Mark Demulder,
Chief, National Geospatial Program.

[FR Doc. 2014-06456 Filed 3-24-14; 8:45 am]

BILLING CODE 4311-AM-P